CONSUMER PRODUCT SAFETY COMMISSION

16 CFR Part 1500

Children's Products Containing Lead; Exemptions for Certain Electronic Devices; Withdrawal of Proposed Rule

AGENCY: Consumer Product Safety Commission.

ACTION: Withdrawal of proposed rule.

SUMMARY: The Consumer Product Safety Commission (CPSC or Commission) is withdrawing the proposed rule published in the Federal Register on January 15, 2009, 74 FR 2435, concerning certain children's electronic devices for which it is not technologically feasible to meet the lead limits as required under section 101 of the Consumer Product Safety Improvement Act of 2008 (CPSIA), Public Law 110-314, 122 Stat. 3016. The Commission is issuing an interim final rule on exemptions for certain children's electronic devices which is published elsewhere in today's Federal Register.

DATES: As of February 10, 2009, the CPSC withdraws the proposed rule on exemptions for certain electronic devices published on January 15, 2009, at 74 FR 2435.

FOR FURTHER INFORMATION CONTACT: Kristina Hatlelid, PhD, M.P.H., Directorate for Health Sciences, Consumer Product Safety Commission, 4330 East West Highway, Bethesda, Maryland 20814; telephone (301) 504-7254, e-mail khatlelid@cpsc.gov.

Dated: February 9, 2009.
Todd A. Stevenson,
Secretary, Consumer Product Safety Commission.

[FR Doc. E9-3024 Filed 2-11-09; 8:45 am]

BILLING CODE 6335-01-P